DEPARTMENT OF HEALTH AND HUMAN SERVICES

National Institutes of Health

Announcement of Requirements and Registration for: “Data Rx: Prescription Drug Abuse Infographic Challenge”

Authority: 15 U.S.C. 3719.

SUMMARY: The “Data Rx: Prescription Drug Abuse Infographic Challenge Concept” challenges the general public to create an infographic that presents information, rooted in the current research, concerning the growing trend of prescription drug abuse. The infographic should be designed to inform and educate the general public in interesting, novel, and creative ways about the dangers involved with the abuse of prescription drugs.

DATES: (1) Submission Period begins May 13, 2013, 12:01 a.m., EDT.

(2) Submission Period ends June 14, 2013, 11:59 p.m., EDT.

(3) Judging will take place between June 11-July 15, 2013.

(4) Winners will be notified and prizes awarded July 30, 2013.

FOR FURTHER INFORMATION CONTACT: Dr. Bethany Deeds, Deputy Branch Chief, Epidemiology Research Branch, Division of Epidemiology, Services and Prevention Research, National Institute on Drug Abuse, Phone: 301-402-1935, email deedsb@nida.nih.gov.

SUPPLEMENTARY INFORMATION:

Subject of Challenge Competition

Prescription drug abuse is a growing drug problem for America. Rates of death by drug overdose have more than tripled since 1990. Most of these deaths are caused by prescription drugs. Infographics are frequently used to communicate complex information in a clear, concise and visually appealing manner to the public. Compared to other topical areas (e.g., politics, economics) the usage of infographics in health science is extremely limited, and infographics relevant to substance use and abuse rarely utilize primary data sources.

The infographic submissions in response to “Data Rx: Prescription Drug Abuse Infographic Challenge Concept” (the “Challenge”) are intended to increase awareness about the dangers of prescription drug abuse based on latest research.

This Challenge is in accordance with the National Institute on Drug Abuse (NIDA) statutory authority, described in 42 U.S.C. 285o. The general purpose of NIDA is the conduct and support of biomedical and behavioral research, health services research, research training, and health information dissemination with respect to the prevention of drug abuse and the treatment of drug abusers. Consistent with this authority, one of NIDA's strategic goals is to prevent the initiation of drug use and the escalation to addiction in those who have already initiated use. Infographics that achieve the goals underlying this Challenge will utilize the latest research to identify the characteristics and patterns of prescription drug abuse and, accordingly, will support this strategic goal.

Entry Materials

Applications for this Challenge will include the following components:

(1) An infographic (in .jpeg format with at least a 300 dots- per-inch [dpi] resolution) that increases awareness and clearly outlines the associated dangers of prescription drug abuse.

(2) A 1-page summary to accompany the infographic (4,000-character maximum). Develop a summary that explains your main points, selected approach and what conclusions the data visualization helps make. References are required and do not count towards the character limit.

(3) Written consent to the eligibility rules upon or before submitting an application.

All Entry Materials must be in English. All requested information must be provided for your application to be valid.

All Entry Materials, including items 1 through 3, must be submitted to Challenge.gov which is an online challenge platform administered by the U.S. General Services Administration (GSA) that empowers the U.S. Government and the public to bring the best ideas and top talent to bear on our nation's most pressing challenges. Access the www.challenge.gov Web site and search for “Data Rx: Prescription Drug Abuse Infographic Challenge.”

Rules for Participating in the Challenge Competition

To be eligible to win a prize under this Challenge, an individual or entity:

(1) Shall have registered to participate in the Challenge under the rules promulgated by the National Institute on Drug Abuse (NIDA);

(2) Shall have complied with all the requirements under this section;

(3) In the case of a private entity, shall be incorporated in and maintain a primary place of business in the United States, and in the case of an individual, whether participating singly or in a group, shall be a citizen or permanent resident of the United States;

(4) In the case of an individual, must be at least 18 years old at the time of entry;

(5) May not be a Federal entity or Federal employee acting within the scope of their employment;

(6) Shall not be an HHS employee working on their applications during assigned duty hours;

(7) Shall not be an employee of the National Institutes of Health (NIH); however, employees of other Operating Divisions within the Department of Health and Human Services (HHS) (e.g., Centers for Disease Control and Prevention (CDC), Substance Abuse and Mental Services Administration (SAMHSA)) are eligible to participate;

(8) In the case of Federal grantees, may not use Federal funds to develop a Challenge application unless it is consistent with the purpose of their grant award;

(9) In the case of Federal contractors, may not use Federal funds from a contract to develop a Challenge application or to fund efforts in support of a Challenge application.

An individual or entity shall not be deemed ineligible because the individual or entity used Federal facilities or consulted with Federal employees during the Challenge if the facilities and employees are made available to all individuals and entities participating in the Challenge on an equitable basis.

Process for Registration and Submitting an Entry

To register for this Challenge, participants must access the www.challenge.gov Web site and search for “Data Rx: Prescription Drug Abuse Infographic Challenge Concept.” A registration link for the challenge can be found on the landing page under this Challenge description.

Amount of the Prize

Up to three monetary prizes will be awarded: $3,000 for 1st place, $2,000 for 2nd place, and $1,000 for 3rd place. First, second, and third place winners will also have their infographic featured on visualizing.org, the creative community for infographic data and design. Depending on the number of applications, NIDA may also choose to post and recognize additional infographics on its Web site.

Payment of the Prize

Prizes awarded under this Challenge will be paid by electronic funds transfer and may be subject to Federal income taxes. HHS will comply with the Internal Revenue Service withholding and reporting requirements, where applicable.

Basis Upon Which Winner Will Be Selected

The judging panel will make recommendations based upon the following three criteria:

1. Creativity and aesthetics of the infographic. (5 points) Like artwork, an infographic should be designed to capture the attention of the viewer and tell a story through creative use of visuals and layout. How original and attractive is the infographic?

2. Clarity in articulating the prescription drug abuse problem. (5 points) At its core, the potential value of data visualization lies in the ability to synthesize and convey complex data clearly and succinctly. How distinctly does the product illuminate the problem of prescription drug abuse?

3. Success in translating multiple data sets into relevant visual information. (5 points) Synthesizing multiple, large datasets to deliver relevant information to the public in a visually compelling is an important feature of an infographic. The inclusion of more data sets does not necessarily translate to a better infographic if it does not effectively convey complex information. How well does the data visualization product accomplish this?

The application must not use HHS's logo or official seal or the logo of NIDA in the application, and must not claim federal government endorsement.

Scores from each criterion will be weighted equally for a maximum score of 15. All applications will be held until after the deadline is reached for a simultaneous judging process.

NIDA reserves the right to disqualify and remove any application which is deemed, in the judging panel's discretion, inappropriate, offensive, defamatory, or demeaning.

The evaluation process will begin by de-identifying the applications and removing those that are not responsive to this Challenge or not in compliance with all rules of eligibility. Judges will examine all applications in accordance with the judging criteria outlined above and meet to discuss the most meritorious entries. Final recommendations will be determined by a vote.

Additional Information

Possible data sources include (but are not limited to):

• Arrestee Drug Abuse Monitoring Data (ADAM; http://www.whitehouse.gov/ondcp/arrestee-drug-abuse-monitoring-program)

• Behaviors Risk Factor Surveillance Survey (BRFSS: http://www.cdc.gov/brfss/)

• Drug Abuse Warning Network (DAWN; http://www.samhsa.gov/data/DAWN.aspx)

• Monitoring the Future (MTF; http://www.monitoringthefuture.org/)

• National Epidemiologic Survey on Alcohol and Related Conditions (NESARC; http://www.sgim.org/communities/research/dataset-compendium/national-epidemiologic-survey-on-alcohol-and-related-conditions-nesarc)

• National Health Interview Survey (NHIS; http://www.cdc.gov/nchs/nhis.htm)

• National Longitudinal Study of Adolescent Health (Add Health; http://www.cpc.unc.edu/projects/addhealth)

• National Longitudinal Surveys (NLS; http://www.bls.gov/nls/)

• National Survey on Drug Use & Health (NSDUH; http://www.samhsa.gov/data/NSDUH/2011SummNatFindDetTables/Index.aspx)

• Treatment Episode Data Set (TEDS; http://wwwdasis.samhsa.gov/webt/newmapv1.htm)

• Youth Risk Behavior Surveillance System (YRBSS; http://www.cdc.gov/HealthyYouth/yrbs/index.htm)

• National Addiction & HIV Data Archive Program (NAHDAP; http://www.icpsr.umich.edu/icpsrweb/NAHDAP/)

• Health Data Community at data.gov (Health Data; http://www.healthdata.gov/)

We also encourage combining or “mashing up” of multiple data sources. See “Basis upon Which Winner Will Be Selected” criteria 3.

Submission Rights

Upon submission, each participant warrants that he or she is the sole author and owner of the work, and that the work is wholly original and does not infringe on any copyright or any other rights of any third party of which the participant is aware. Participants retain title and full ownership in and to their application. Participants expressly reserve all intellectual property rights (e.g., copyright). However, each participant may be asked to grant to NIDA and others acting on behalf of NIDA, a royalty-free non-exclusive worldwide license to use, copy for use, and display publicly all parts of the application for the purposes of the Challenge. This license includes posting or linking to the application on the official NIDA Web site and making it available for use by the public.

Liability

By participating in this Challenge, participants agree to assume any and all risks and waive claims against the Federal Government and its related entities, except in the case of willful misconduct, for any injury, death, damage, or loss of property, revenue, or profits, whether direct, indirect, or consequential, arising from their participation in the Challenge, whether the injury, death, damage, or loss arises through negligence or otherwise.

Indemnification

By participating in this Challenge, participants agree to indemnify the Federal Government against third party claims for damages arising from or related to Challenge activities.

Insurance

Based on the subject matter of the contest, the type of work that it will possibly require, as well as an analysis of the likelihood of any claims for death, bodily injury, or property damage, or loss potentially resulting from Challenge participation, participants are not required to obtain liability insurance or demonstrate financial responsibility in order to participate in this Challenge.

Privacy, Data Security, Ethics, and Compliance

Participants are required to identify and address privacy and security issues in their proposed projects, and describe specific solutions for meeting them. In addition to complying with appropriate policies, procedures, and protections for data that ensures all privacy requirements and institutional policies are met, use of data should not allow the identification of the individual from whom the data was collected. Participants are responsible for compliance with all applicable federal, state, local, and institutional laws, regulations, and policy. These may include, but are not limited to, Health Insurance Portability and Accountability Act (HIPAA), HHS Protection of Human Subjects regulations, and FDA regulations. The following links are intended as a starting point for addressing regulatory requirements, but should not be interpreted as a complete list of resources on these issues:

HIPAA

Main link: http://www.hhs.gov/ocr/privacy/index.html.

Summary of the HIPAA Privacy Rule: http://www.hhs.gov/ocr/privacy/hipaa/understanding/summary/index.html.

Summary of the HIPAA Privacy Rule: http://www.hhs.gov/ocr/privacy/hipaa/understanding/summary/index.html.

Summary of the HIPAA Security Rule: http://www.hhs.gov/ocr/privacy/hipaa/understanding/srsummary.html.

Human Subjects—HHS

Office for Human Research Protections: http://www.hhs.gov/ohrp/index.html.

Protection of Human Subjects Regulations: http://www.hhs.gov/ohrp/humansubjects/guidance/45cfr46.html.

Policy & Guidance: http://www.hhs.gov/ohrp/policy/index.html.

Institutional Review Boards & Assurances: http://www.hhs.gov/ohrp/assurances/index.html.

Human Subjects—U.S. Food and Drug Administration (FDA)

Clinical Trials: http://www.fda.gov/ScienceResearch/SpecialTopics/RunningClinicalTrials/default.htm.

Office of Good Clinical Practice: http://www.fda.gov/AboutFDA/CentersOffices/OfficeofMedicalProductsandTobacco/OfficeofScienceandHealthCoordination/ucm2018191.

Consumer Protection—Federal Trade Commission (FTC)

Bureau of Consumer Protection: http://business.ftc.gov/privacy-and-security.

Dated: May 6, 2013.
Nora Volkow,
Director, National Institute on Drug Abuse, National Institutes of Health.

[FR Doc. 2013-11688 Filed 5-15-13; 8:45 am]

BILLING CODE 4140-01-P